DEPARTMENT OF LABOR

Employment and Training Administration

[TA-W-74,892]

Stanley Black and Decker, CDIY Division, Warranty Evaluation Center (WEC), Including On-Site Leased Workers From Manpower, McAllen, TX; Amended Certification Regarding Eligibility to Apply for Worker Adjustment Assistance

In accordance with Section 223 of the Trade Act of 1974, as amended (“Act”), 19 U.S.C. 2273, the Department of Labor issued a Certification of Eligibility to Apply for Worker Adjustment Assistance on January 18, 2011, applicable to workers of Stanley Black and Decker, CDIY Division, including on-site leased workers from Manpower, McAllen, Texas. The notice was published in the Federal Register on February 2, 2011 (76 FR 5836).

At the request of the State agency, the Department reviewed the certification for workers of the subject firm. The workers in the CDIY Division are engaged in activities related to the receiving and inspecting reconditioning products sent from customers to the Warranty Evaluation Center.

New findings show that the correct name of the subject firm in its entirety should read Stanley Black and Decker, CDIY Division, Warranty Evaluation Center.

Accordingly, the Department is amending this certification to include the Warranty Evaluation Center (WEC), CDIY Division of Stanley Black and Decker, McAllen, Texas.

The intent of the Department's certification is to include all workers of the subject firm who were adversely affected by a shift in services to China, Taiwan and Poland.

The amended notice applicable to TA-W-74,892 is hereby issued as follows:

All workers of Stanley Black and Decker, CDIT Division, Warranty Evaluation Center (WEC), including on-site leased workers from Manpower, McAllen, Texas, who became totally or partially separated from employment on or after November 8, 2009, through January 18, 2013, and all workers in the group threatened with total or partial separation from employment on date of certification through two years from the date of certification, are eligible to apply for adjustment assistance under Chapter 2 of Title II of the Trade Act of 1974, as amended.

Signed in Washington, DC, this 13th day of February, 2012.
Elliott S. Kushner,
Certifying Officer, Division of Trade Adjustment Assistance.

[FR Doc. 2012-4580 Filed 2-27-12; 8:45 am]

BILLING CODE 4510-FN-P